FEDERAL COMMUNICATIONS COMMISSION

[FR ID 99193]

Open Commission Meeting Friday, August 5, 2022

The Federal Communications Commission will hold an Open Meeting on the subjects listed below on Friday, August 5, 2022, which is scheduled to commence at 10:30 a.m. in the Commission Meeting Room of the Federal Communications Commission, 45 L Street NE, Washington, DC.

While attendance at the Open Meeting is available to the public, the FCC headquarters building is not open access, and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | WIRELINE COMPETITION | Title: Affordable Connectivity Outreach Grant Program (WC Docket No. 21-450). Summary: The Commission will consider a Second Report and Order which would establish the Affordable Connectivity Outreach Grant Program to provide eligible governmental and non-governmental entities funding to conduct outreach to increase awareness of and encourage participation in the Affordable Connectivity Program among eligible low-income households.
2 | WIRELINE COMPETITION | Title: `Your Home, Your Internet' Pilot Program (WC Docket No. 21-450). Summary: The Commission will consider a Third Report and Order which would establish the one-year Your Home, Your Internet Pilot Program with the goal of increasing awareness of the Affordable Connectivity Program among recipients of federal housing assistance and facilitating enrollment in the ACP by providing targeted assistance with the ACP application.
3 | INTERNATIONAL | Title: Space Innovation (IB Docket No 22-271); Facilitating Capabilities for In-Space Servicing, Assembly, and Manufacturing (IB Docket No. 22-272). Summary: The Commission will consider a Notice of Inquiry (NOI) that would examine opportunities and challenges of in-space servicing, assembly, and manufacturing—or “ISAM”—that can support sustained economic activity in space. This NOI would develop an up-to-date record on current ISAM activities and seek input on steps the Commission might take to facilitate ISAM missions, including through updates to Commission rules and processes.
4 | INTERNATIONAL | Title: Amendment of Parts 2 and 25 of the Commission's Rules to Enable GSO Fixed-Satellite Service (Space-to-Earth) Operations in the 17.3-17.8 GHz Band, to Modernize Certain Rules Applicable to 17/24 GHz BSS Space Stations, and to Establish Off-Axis Uplink Power Limits for Extended Ka-Band FSS Operations (IB Docket No. 20-330); and to Enable NGSO Fixed-Satellite Service (Space-to-Earth) Operations in the 17.3-17.8 GHz Band (IB Docket No. 22-273). Summary: The Commission will consider a Report and Order and a Notice of Proposed Rulemaking that would adopt a coprimary allocation for geostationary satellite orbit (GSO) fixed-satellite service (FSS) operations in the space-to-Earth (downlink) direction in the 17.3-17.8 GHz band, while protecting incumbent services, and inquire into whether the Commission should expand this FSS allocation in the 17.3-17.8 GHz band to include non-geostationary orbit (NGSO) FSS operations also in the downlink direction.
5 | MEDIA | Title: Restricted Adjudicatory Matter Summary: The Commission will consider a restricted adjudicatory matter.
6 | ENFORCEMENT | Title: Enforcement Bureau Action. Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Dated: July 29, 2022.
Marlene Dortch,
Secretary.

[FR Doc. 2022-16719 Filed 8-3-22; 8:45 am]

BILLING CODE 6712-01-P